Title 3—

The President

Executive Order 14106 of August 14, 2023

United States Coast Guard Officer Personnel Management

By the authority vested in me as President by the Constitution and the laws of the United States of America, including section 301 of title 3, United States Code, and in order to delegate certain functions concerning the appointment, promotion, separation, and retirement of commissioned officers of the United States Coast Guard, it is hereby ordered as follows:

Section 1. The Secretary of Homeland Security is directed to perform, without approval, ratification, or other action by the President, the following functions vested in the President:

(a) the authority vested in the President by section 2118(a) of title 14, United States Code, to approve, modify, or disapprove the report of a selection board;

(b) the authority vested in the President by sections 2118(b) and 2122(a) of title 14, United States Code, to remove a name of an officer from a selection board report or a list of selectees;

(c) the authority vested in the President by section 2101 of title 14, United States Code, to appoint officers from the categories described in section 2101(a)(1) of title 14, United States Code, to the grades of ensign, lieutenant (junior grade), and lieutenant, and to accept the resignations of officers appointed pursuant to section 2101 of title 14, United States Code;

(d) the authority vested in the President by section 2121(e) of title 14, United States Code, to appoint officers in the grades of lieutenant (junior grade) and lieutenant;

(e) the authority vested in the President by section 2104(a) of title 14, United States Code, to make temporary appointments not above lieutenant in the Regular Coast Guard and Coast Guard Reserve;

(f) the authority vested in the President by section 2150(f) of title 14, United States Code, to approve the report of a board convened to recommend for continuation on active duty officers serving in the grade of captain;

(g) the authority vested in the President by section 571(b) of title 10, United States Code, to appoint by commission regular chief warrant officers in the Coast Guard; and

(h) the authority vested in the President by sections 12241(b) and 571(b) of title 10, United States Code, to appoint by commission reserve chief warrant officers in the Coast Guard.

Sec. 2. (a) During a time of war or national emergency, the Secretary of Homeland Security is directed to perform the authority vested in the President by section 2125 of title 14, United States Code, to suspend the operation of any law relating to the selection, promotion, or involuntary separation of officers of the Coast Guard, and to temporarily promote officers serving on active duty and chief warrant officers serving on active duty, as authorized by section 2125 of title 14, United States Code, without the approval, ratification, or other action by the President.

(b) During a time of war or national emergency, the Secretary of Homeland Security is directed to perform the authority vested in the President by section 3733 of title 14, United States Code, to suspend the operation of subchapter II of chapter 37 of title 14, United States Code, concerning officers of the Coast Guard Reserve without the approval, ratification, or other action by the President.

(c) The authority delegated to the Secretary of Homeland Security by this section may not be exercised during the time of a national emergency declared by the President, unless the exercise of any such authority is specifically directed by the President in accordance with section 301 of the National Emergencies Act (50 U.S.C. 1631).

(d) The Secretary of Homeland Security shall ensure that actions taken pursuant to the authority delegated by this section are accounted for as required by section 401 of the National Emergencies Act (50 U.S.C. 1641).

Sec. 3. All actions heretofore taken by the President with respect to the matters affected by this order and in force at the time of issuance of this order, including any regulations prescribed or approved by the President with respect to such matters, shall, except as they may be inconsistent with the provisions of this order, remain in effect until amended, modified, or revoked pursuant to the authority conferred by this order.

Sec. 4. As used in this order, the term “functions” embraces duties, powers, responsibilities, authority, or discretion, and the term “perform” may be construed to mean “exercise.”

Sec. 5. Whenever the entire Coast Guard operates as a service in the Navy, the references to the Secretary of Homeland Security in sections 1 and 2 of this order shall be deemed to be references to the Secretary of Defense.

Sec. 6. If any provision of this order or the application of such provision is held to be invalid, the remainder of this order and other dissimilar applications of such provision shall not be affected.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

August 14, 2023.

[FR Doc. 2023-17832

Filed 8-16-23; 8:45 am]

Billing code 3395-F3-P